NUCLEAR REGULATORY COMMISSION

[Docket No. 50-302; NRC-2023-0174]

Accelerated Decommissioning Partners Crystal River Unit 3, LLC; Crystal River Unit 3 Nuclear Generating Plant; License Amendment Application; Withdrawal by Applicant

AGENCY: Nuclear Regulatory Commission.

ACTION: Notice.

SUMMARY: The U.S. Nuclear Regulatory Commission (NRC) has granted the request of Accelerated Decommissioning Partners Crystal River Unit 3, LLC (ADP CR3, the licensee) to withdraw its application dated December 12, 2022, for a proposed amendment to Facility Operating License No. DPR-72. The proposed amendment would have added a license condition to include the License Termination Plan for the Crystal River Unit 3 Nuclear Generating Plant.

DATES: September 4, 2024.

ADDRESSES: Please refer to Docket ID NRC-2023-0174 when contacting the NRC about the availability of information regarding this document. You may obtain publicly available information related to this document using any of the following methods:

• Federal Rulemaking Website: Go to https://www.regulations.gov and search for Docket ID NRC-2023-0174. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

FOR FURTHER INFORMATION CONTACT: Chris Allen, Office of Nuclear Material Safety and Safeguards, U.S. Nuclear Regulatory Commission, Washington, DC 20555-0001, telephone: 301-415-6877; email: William.Allen@nrc.gov.

SUPPLEMENTARY INFORMATION:

I. Discussion

The NRC has granted the request of ADP CR3 (the licensee) to withdraw its December 12, 2022 (ADAMS Accession No. ML22355A441), application for proposed amendment to Facility Operating License No. DPR-72 for the Crystal River Unit 3 Nuclear Generating Plant, located in Citrus County, Florida. The proposed amendment would have added a license condition to include the License Termination Plan. On November 8, 2023, the NRC published in the Federal Register a notice of application receipt and public meeting notice (88 FR 77111).

By letter dated August 12, 2024 (ADAMS Accession No. ML24225A207), ADP CR3 withdrew the license amendment request. By letter dated August 27, 2024 (ADAMS Accession No. ML24226B239), the NRC accepted ADP CR3's request to withdraw the license amendment.

Dated: August 29, 2024.
For the Nuclear Regulatory Commission.
Nicole Warnek,
Acting Chief, Reactor Decommissioning Branch, Division of Decommissioning, Uranium Recovery, and Waste Programs, Office of Nuclear Material Safety and Safeguards.

[FR Doc. 2024-19800 Filed 9-3-24; 8:45 am]

BILLING CODE 7590-01-P